DEPARTMENT OF HOMELAND SECURITY

Coast Guard

[USCG-2014-0543]

Great Lakes Pilotage Advisory Committee

AGENCY: Coast Guard, DHS.

ACTION: Committee Management; Notice of Federal Advisory Committee Meeting.

SUMMARY: The Great Lakes Pilotage Advisory Committee will meet on July 23-24, 2014, in Washington, DC to discuss matters relating to Great Lakes pilotage, including review of proposed Great Lakes pilotage regulations and policies. These meetings will be open to the public.

DATES: The Great Lakes Pilotage Advisory Committee will meet on Wednesday July 23rd, 2014, from 10:00 a.m. to 5:00 p.m., and on Thursday July 24th from 9:00 a.m. to 5 p.m. Please note that the meeting may close early if the committee completes its business. Pre-registration, all submitted written materials, comments and requests to make oral presentations at the meeting should reach Ms. Michelle Birchfield, Great Lakes Pilotage Advisory Committee Alternate Designated Federal Officer on or before July 18, 2014. Any written material submitted by the public will be distributed to the committee and become part of the public record.

ADDRESSES: The meeting will be held at U.S. Coast Guard Headquarters located at 2703 Martin Luther King Jr. Avenue SE., Washington, DC 20593 in conference room 4R14-18. All visitors to Coast Guard Headquarters will have to pre-register to be admitted to the building. Please provide your full name, date of birth and Social Security number by close of business on July 18, 2014, to the contact person listed in FOR FURTHER INFORMATION CONTACT below. Additionally, all visitors to Coast Guard Headquarters must provide identification in the form of government-issued picture identification card for access to the facility. Please allow at least 30 minutes before the planned start of the meeting in order to pass through security.

For information on facilities or services for individuals with disabilities or to request special assistance at the meeting, contact the person listed in FOR FURTHER INFORMATION CONTACT below as soon as possible.

To facilitate public participation, we are inviting public comment on the issues to be considered by the committee as listed in the “Agenda” section below. Comments must be submitted in writing no later than July 18, 2014, and must be identified by [USCG-2014-9110] and may be submitted by one of the following methods:

• Federal eRulemaking Portal: http://www.regulations.gov. Follow the instructions for submitting comments.

• Fax: 202-493-2251.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329.

To avoid duplication, please use only one of these four methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, and use “USCG-2014-0543” in the “Search” box, press Enter, and then click on the item you wish to view.

Public comments will be heard during the meeting on July 23 and July 24, 2014. Speakers are requested to limit their comments to 5 minutes. Please note that the public comment period may end before the period allotted, following the last call for comments. Contact the individual listed in the FOR FURTHER INFORMATION CONTACT: section below to register as a speaker.

FOR FURTHER INFORMATION CONTACT: Commandant (CG-WWM-2), ATTN: Ms. Michelle Birchfield, Great Lakes Pilotage Advisory Committee Alternate Designated Federal Officer, U.S. Coast Guard Stop 7509, 2703 Martin Luther King Jr. Avenue SE., Washington, DC 20593-7509; telephone 202-372-1537, fax 202-372-8387, or email at Michelle.R.Birchfield@uscg.mil. If you have questions on viewing or submitting material to the docket, call Cheryl Collins, Program Manager, Docket Operations, telephone 202-366-9826 or 1-800-647-5527.

SUPPLEMENTARY INFORMATION: Notice of this meeting is given under the Federal Advisory Committee Act (FACA), 5 U.S.C. Appendix, Public Law 92-463, 86 Stat, 770 as amended. The Great Lakes Pilotage Advisory Committee was established under the authority of 46 U.S.C. 9307, and makes recommendations to the Secretary of Homeland Security and the Coast Guard on matters relating to Great Lakes pilotage, including review of proposed Great Lakes pilotage regulations and policies.

Further information about Great Lakes Pilotage Advisory Committee is available by going to the Web site: https://www.facadatabase.gov. Click on the search tab and type “Great Lakes” into the search form. Then select “Great Lakes Pilotage Advisory Committee” from the list. A copy of all meeting documentation will also be available at https://homeport.uscg.mil/GLPAC. Alternatively, you may contact Ms. Michelle Birchfield as noted in the FOR FURTHER INFORMATION CONTACT: section above.

Agenda

The Great Lakes Pilotage Advisory Committee will meet to review, discuss, deliberate and formulate recommendations as appropriate on topics contained in the below agenda:

• Ice Operations: Closing of 2013 and Opening of 2014 Seasons

○ Debrief

○ US/Canada coordination

○ Lessons learned

○ Great Lakes Pilotage Management System (GLPMS, or Klein) Migration

• Review General Regulations

○ Update on effort to align with Federal Pilot requirements and credentialing

○ Required Reporting to USCG

Financial and operational reporting

Accident reporting

• Discussion of Pilotage Governance

○ Working Rules

○ Geographic areas of responsibility

○ Observance of mandatory change points for safety

• Pilotage requirements for yachts

• Commencement of revenue audits

• Proposed changes to the ratemaking methodology

• Billing for pilot boat operations

• Funding capital improvements

• Improving recruitment and retention

• Continuing raining, education and professional development

Public comments or questions will be taken throughout the meeting as the committee discusses the issues. There will also be a public comment period at the end of each day.

Minutes: Minutes from the meeting will be available for public view and copying within 90 days following the meeting at https://homeport.uscg.mil/GLPAC.

Dated: June 30, 2014.
G.C. Rasicot,
Director, Marine Transportation Systems, U.S. Coast Guard.

[FR Doc. 2014-15790 Filed 7-3-14; 8:45 am]

BILLING CODE 9110-04-P